DEPARTMENT OF COMMERCE

National Oceanic and Atmospheric Administration

[I.D. 121406D]

Pacific Fishery Management Council; Public Meeting

AGENCY: National Marine Fisheries Service (NMFS), National Oceanic and Atmospheric Administration (NOAA), Commerce.

ACTION: Notice of a public meeting.

SUMMARY: The Pacific Fishery Management Council's (Council) Ad Hoc Shoreside Whiting Alternative Group (Ad Hoc Group) will hold a work session via conference call, which is open to the public.

DATES: The Ad Hoc Group will meet via conference call on Tuesday, January 2, 2007, from 1 p.m. until business is completed.

ADDRESSES: Public listening stations will be available at the following locations:

Pacific Fishery Management Council, 7700 NE Ambassador Place, Suite 101, Portland, OR 97220-1384, telephone: (503) 820-2280;

National Marine Fisheries Service, (room location to be determined, contact the Council office for further information - see ADDRESSES)), 7600 Sand Point Way NE, Seattle, WA 98115, telephone: (206) 526-6150; and

Oregon Department of Fish and Wildlife, Conference Room, 2040 SE Marine Science Dr., Newport, OR 97365, telephone: (541) 867-4741.

Council address: Pacific Fishery Management Council, 7700 NE Ambassador Place, Suite 101, Portland, OR 97220-1384.

FOR FURTHER INFORMATION CONTACT: Ms. Laura Bozzi, Pacific Fishery Management Council, telephone: (503) 820-2280.

SUPPLEMENTARY INFORMATION: The primary purpose of the meeting is to develop an additional analytical alternative in support of the Council's goal to create a regulatory structure that ensures maximum retention of catch and appropriate monitoring for the West Coast shoreside Pacific whiting fishery. This alternative would be a hybrid of alternatives already adopted in November 2006 by the Council for analysis; it will combine elements of the observer-based alternative and the electronic monitoring system-based alternative. The new alternative developed by the Ad Hoc Group is scheduled be considered by the Council at its March 4-9, 2007 meeting in Sacramento, CA.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Authority: 16 U.S.C. 1801 et seq.

Dated: December 14, 2006.
Tracey L. Thompson,
Acting Director, Office of Sustainable Fisheries, National Marine Fisheries Service.

[FR Doc. E6-21621 Filed 12-19-06; 8:45 am]

BILLING CODE 3510-22-S